DEPARTMENT OF JUSTICE

National Institute of Corrections

Solicitation for a Cooperative Agreement—Resource Center for Children of Prisoners

AGENCY: National Institute of Corrections, Department of Justice.

ACTION: Solicitation for a Cooperative Agreement.

SUMMARY: This is one of five solicitations to address issues of children who have experienced parental incarceration. There will be one award for this solicitation of up to $1 million for a 36 month project. The purpose of this solicitation is to create a Resource Center for Children of Prisoners that will be responsible to provide training and technical assistance; develop a plan for a public awareness program; identify existing research and resources, including papers and publications, programs and promising practices on children/youth affected by parental incarceration; support and manage an advisory group; and develop and conduct, as appropriate, process and outcome evaluation for all awardees of the five solicitations for the Children of Prisoners funds.

Background

The Department of Justice (DOJ), National Institute of Corrections (NIC), announces the availability of funds for fiscal year 2001 for five (5) solicitations to fund projects for children of incarcerated or formerly incarcerated parents. Congress appropriated $4 million to NIC “to work with cooperative agreements to fund private sector or not for profit groups that have effective, tested programs to help children of prisoners.” These cooperative agreements may be for up to three (3) years.

To prepare for this solicitation, NIC convened a Children of Prisoners planning meeting, inviting federal and state government, association, academic and private provider representatives. The goals of the two-day meeting were to: (1) Identify the problems and issues that children of prisoners or former prisoners face that put them at risk of potential future delinquency; (2) identify the problems and greatest needs of incarcerated parents and caretakers of these children; (3) identify and describe evidence-based and promising approaches to support these children and prevent their future delinquency; and (4) describe and prioritize how the newly appropriated funds can best address these issues.

Based on this meeting, NIC staff is announcing the following five (5) solicitations:

1. Resource Center—(This announcement) Up to $1 million for a 36 month project will be awarded to one (1) organization or group (joint applications are encouraged) to provide training and technical assistance, develop a plan for a public awareness program, support and manage an advisory group, and develop and conduct, as appropriate, process and outcome evaluations with awardees.

2. Planning Awards—Three (3), 18-month planning awards, of up to $100,000 for each award, will be made to three private and non profit agencies in three different jurisdictions. The purpose of this solicitation is to assist three (3) jurisdictions to develop a comprehensive plan for the delivery of services to a clearly identified target population of children/youth who have been traumatized or damaged as a result of parental incarceration. These awards will be given to agencies that create or build on an existing collaborative planning process. All applications must include the appropriate Federal, State and/or local agency/agencies.

3. Awards to Communities with High Crime and High Incarceration Rates—Up to $1.675 million will be awarded to three (3) to five (5) private and/or non profit agencies working with children living in communities with high crime and incarceration rates. The purpose is to develop three-year demonstration programs. Up to one year may be spent planing the programs, the second and third years will focus on program implementation and evaluation.

4. Children of Parents in Prison—Three-year demonstration awards to two (2) agencies that work with children of parents held in State or Federal prisons. A total of $500,000 will be available for these awards. One award will for $30,000 per year and one will be for $135,000 a year. Planning must be an integral part of the application.

5. Children of Parents in Jail—Three-year demonstration awards to two (2) agencies that work with children of parents in jail. A total of $500,000 will be available for these awards. One award will be for $30,000 per year and one will be for $135,000 a year. Planning must be an integral part of the application.

Applicants may apply for more than one solicitation.

Information About This Population

According to Senate Report 106-404 from the FY 2001 DOJ appropriations bill, “* * * children of prisoners are six times more likely than other children to be incarcerated at some point in their lives * * *.” Yet, little research and few programs have targeted children of offenders.

The number of men and women confined in prisons and jails has increased in the 1990s from just under 1.2 million to 1.9 million. The Bureau of Justice Statistics in its August 2000 Bulletin, “Incarcerated Parents and Their Children,” states that 721,500 State and Federal inmates are parents to nearly 1.5 million children under the age of 18, an increase of 500,000 children in the past 8 years. This means that 2.1% of all children in the United States have a parent in State or Federal prison. The number of children of parents in detention is not known, but half of all youth in custody have apparent or close relative who has been in jail.

Prior to prison admission, 64% of the women and 44% of the men lived with their children. Once incarcerated, 90% of the men indicated that at least one child lived with his/her mother; 28% of the women said the father was the child's care giver. One in five of these children was under 5 years of age, and the majority were less than 10 years old. Black children were nearly 9 times more likely to have a parent in prison than white children, and Hispanic children were 3 times more likely than white children to have an imprisoned parent.

While the number of fathers in prison far outweighs the number of mothers, it is mostly the mothers who were primary care givers before incarceration. When fathers are incarcerated, the care giver usually becomes the mother; when the mother is confined, the care giver often becomes the child's grandparent or other relative. Three of four parents in State prisons reported a prior conviction compared to one out of three in Federal prisons. Many children, then, have experienced more than one parental separation.

Parental arrest and confinement lead to stress, trauma, stigmatization and separation problems for the children. These problems are coupled with existing problems that include poverty, violence, parental substance abuse, high crime environment, intrafamily abuse, abuse and neglect, multiple care givers and/or prior separations. As a result, these children often exhibit a broad variety of behavioral, emotional, health, and educational problems that are compounded by the pain of separation.

Denise Johnston from the Center for Children of Incarcerated Parents in California found that early childhood (between the ages of 2-6) may be the most damaging time for parent-child separation as the child remembers the trauma but cannot adjust to it without help. If these children do not receive assistance or cannot process the separation for themselves, their behaviors can become increasingly maladaptive as they grow up, leading to strong negative feelings about the criminal justice and welfare systems, delinquency, poor school performance and other antisocial behaviors.

There are a handful of programs around the country that work with these children. The Child Welfare League of America has published, “Working with Children and Families Separated by incarceration,” a handbook for child welfare agencies and staff. There is also a major initiative funded by the U.S. Department of Health and Human Services the goals of which are to: (1) develop a research and practice baseline on the effects of incarceration on prisoners and their children, families and communities; (2) document the intersection of populations within the criminal justice system and populations served by HHS programs; (3) determine unmet health and human services needs of offenders and their families left behind in the community; and (4) ensure that HHS takes into account the effects of incarceration on the children and families of inmates. HHS has commissioned a literature review and nine papers to explore what is known and knowable about these issues.

Goals and Objectives of This Award

The Resource Center will provide many different services. Its target audience are all awardees of Children of Prisoners cooperative agreements, and the criminal justice, health and human services and child welfare communities. Joint applications are encouraged.

Goal 1: Develop and disseminate information about the effects on children/youth of parental separation due to the latter's incarceration and on research, tested experience and promising practices that increased the stability and positive outcomes for these children.

Objectives

1. Develop a plan for an awareness dissemination program on child/parent separation targeted at constituent groups.

2. Develop a plan for training and technical assistance to awardees and other constituent groups.

3. Staff an advisory/working group selected by NIC. It is anticipated there will be two meetings in Year 1 and one meeting each in Years 2 and 3. This group will include NIC staff and may include up to 10 representatives from constituent groups working to coordinate their respective agency efforts.

4. Identify existing research and resources including papers and publications, programs and promising practices, on children/youth affected by parental incarceration.

5. Provide training and technical assistance to awardees, as needed, both on site and by phone, and to constituency groups to increase awareness of the effects of parental incarceration on children.

Goal 2: Develop and/or assist in developing process and/or outcome evaluations for all awardees.

Objectives

1. Consult with awardees in designing and implementing appropriate data collection protocols to evaluate their planning process and service delivery programs(s)

2. Conduct evaluations, as appropriate, to assess planning and program delivery outcomes.

3. Develop a design to allow for a longitudinal study of the initiative programs if long term funding is secured.

4. All data, where possible, will be shown by gender and race.

Applicant Expertise

NIC is seeking an applicant organization or team with the necessary expertise and experience in the following areas:

1. Child development and child-family relationships, the human services, criminal and juvenile justice systems, and planning.

2. Developing and delivering training and technical assistance to a variety of audiences.

3. Developing a public awareness campaign for constituent groups.

4. Meeting planning and management, including logistics and technical support.

5. Conducting outcome evaluations.

Project Design

The project for the three-year cooperative agreement is as follows.

Year 1

1. Plan, organize and manage two advisory group meetings. Each meeting will be coordinated with NIC project staff who will select up to 10 advisory group members.

2. Plan, organize and manage a post-selection meeting, either on site at each jurisdiction or as a group in one place. The site will be determined by the needs and locations of the awardees. The purpose of the meeting(s) is to learn about each program, share ideas and concerns, describe the types of assistance the Resource Center can provide and begin the work with awardees of developing the direction of the outcome evaluations.

3. Identify existing research and resources, including papers and publications, programs and promising practices, on children/youth affected by parental incarceration.

4. Provide training to awardees and constituency groups, as needed.

5. Develop a technical assistance plan to include the types of assistance to be provided, average frequency of contacts with awardees, and how the assistance will be delivered.

6. Develop specialized training and materials for constituency groups in, at a minimum, the following areas:

a. What is known about the effects of parental incarceration on children and youth behavior.

b. The developmental needs of children and how those needs impact children when separated from their primary care taker.

c. Violence and victimization in the lives of inmates and the effects of these experiences on their ability to parent their children.

d. Promising practices that community corrections, jails, prisons, juvenile detention and secure confinement facilities can implement to promote positive child/family relationships, where appropriate. These practices may come from working with similar populations, e.g., Head Start children and parents, substance abusing parents.

e. How the correctional system can work with other systems, such as juvenile detention, child welfare, education, mental health and physical health.

The applicant will demonstrate cultural sensitivity in training program design and implementation.

8. Work with awardees to identify their evaluation needs and, where appropriate, develop and implement evaluation instrument(s). The monetary size of the direct service award will likely impact the type of evaluation selected.

9. Prepare a Year One progress report.

The NIC Project Manager will have the final review on all deliverables.

Years 2 and 3

1. Plan, organize and manage one advisory group meeting in each Year 2 and in Year 3.

2. Continue to provide training and technical assistance to awardees as they continue to plan and implement services. Identify the types of training and TA that might be provided.

3. Field test and deliver final training program to a constituent group. Indicate the criteria to be used for trainee selection.

4. Implement the public information campaign.

5. Describe how the evaluations will be conducted and the results distributed.

6. Prepare a progress report for Year Two and a final report at the end of Year Three based on the evaluations of each project.

Application Requirements

The applicant must:

1. Provide a statement of what is known about the problems that children/youth face when separated from incarcerated parents.

2. Develop a project design that meets the goals and objectives stated above, including methodology and deliverables. Include a workplan on how each task will be developed and implemented.

3. Describe the strengths of each proposed agency that will form the Resource Center.

4. Provide a management plan that includes key staff, the amount of time spent by key staff, the tasks each key staff will perform, a timeline for the first year and a proposed timeline for Years 2 and 3. Explain how the Resource Center will work with NIC.

5. Provide a budget and budget narrative for the first year and proposed budgets for Years 2 and 3. Include in the budget all expenses related to the public awareness campaign, training and technical assistance for awardees, Advisory Group meetings, and outcome evaluations.

6. Applications are limited to 25 typed, double spaced pages using a 12 point font, not including letters of support, resumes, other supporting documents and SF-424 forms. Provide 6 copies of the application, including one that is not bound. One bound copy must be signed in blue ink by the agency administrator or chief executive officer.

Authority: Public Law 93-415.

Funds Available

One award will be made for up to $1 million for a 36 month project. In addition to private and non profit agencies, educational institutions are encouraged to apply. At this time, there are no plans for additional funding in the future.

Deadline for Receipt of Applications

Applications must be received at the NIC offices by 4 p.m. EDT on August 2, 2001. They should be addressed to: Director, National Institute of Corrections, 320 First Street, NW, Room 5007, Washington, DC 20534. Hand delivered applications may be brought to 500 First Street, NW, Washington, DC 20534. The front desk will call Germaine Jefferson or Bobbi Tinsley at 202-307-3106 ext. 0 for pickup.

Addresses and Further Information

Requests for the application kit, which consists of copies of this announcement and the required application forms, can be downloaded from the NIC website at http://www.nicic.org Click on “Cooperative Agreements.”

All technical and/or programmatic questions concerning this announcement should be directed to Mary Whitaker at the above address or by calling 800-995-6423, extension 40378, or 202-514-0378 or by e-mail via mwhitaker@bop.gov

All specific questions regarding the application process should be directed to Judy Evens, Cooperative Agreement Control Office, National Institute of Corrections, 320 First Street, NW, Room 507, Washington, DC 20534 or by calling 800-995-6423, ext. 44222 or 202-307-3106, extension 44222 or by e-mail via jevens@bop.gov

Eligible Applicants: Applicants are private and not for profit agencies. Educational institutions are also encouraged to apply.

Review Considerations: Applications will be reviewed by a three- to five-member team using a peer review process.

Number of Awards: One (1).

NIC Application Number: NIC Application Number: 01K60. This number should appear as a reference line in the cover letter and also in box 11 of Standard Form 424. This number must also appear on the outside of the package in which the application arrives at NIC.

(The Catalog of Federal Domestic Assistance Number: 16.602.)
This project is not subject to the provisions of Executive Order 12372.
Dated: June 18, 2001.
Morris L. Thigpen,
Director, National Institute of Corrections.

[FR Doc. 01-15688 Filed 6-21-01; 8:45 am]

BILLING CODE 4410-36-M